DEPARTMENT OF HEALTH AND HUMAN SERVICES

National Institutes of Health

National Cancer Institute; Amended Notice of Meeting

Notice is hereby given of a change in the meeting of the National Cancer Institute Special Emphasis Panel, January 29, 2015 10:00 a.m. to January 29, 2015, 05:00 p.m., National Cancer Institute Shady Grove, 9609 Medical Center Drive, Rockville, MD 20850 which was published in the Federal Register on December 30, 2014, 79FR78456.

The meeting notice is being amended to change the title from Omnibus SEP-5 to Fundamental Mechanisms of Affective and Decisional Processes in Cancer Control. The meeting is closed to the public.

Dated: December 30, 2014.
David Clary,
Program Analyst, Office of Federal Advisory Committee Policy.

[FR Doc. 2014-30877 Filed 1-5-15; 8:45 am]

BILLING CODE 4140-01-P